DEPARTMENT OF AGRICULTURE

Forest Service

Apache-Sitgreaves National Forests; Apache, Coconino, Greenlee and Navajo Counties, Arizona; Revised Draft Environmental Impact Statement for Public Motorized Travel Management Plan

AGENCY: Forest Service, USDA.

ACTION: Revised Notice of Intent (NOI).

SUMMARY: The Forest Service is revising the Environmental Impact Statement for the Public Motorized Travel Management Plan on the Apache-Sitgreaves National Forests.

DATES: Comments concerning the 2010 DEIS were received by December 13, 2010, 45 days from the date of publication of the Notice of Availabiliy (NOA) of the draft EIS in the Federal Register (75 FR 66756). An additional 45 day comment period will occur after the publication of the revised DEIS in the Federal Register. The revised DEIS is expected in the summer of 2018 and the final EIS is expected in the winter of 2019.

ADDRESSES: Send written inquiries to Travel Management, Apache-Sitgreaves National Forests, P.O. Box 640, Springerville, AZ 85938. Inquiries may also be sent via email to comments-southwestern-apache-sitgreaves@fs.fed.us with “Travel Management” in the subject line. Inquiries may also be sent via facsimile to (928) 333-5966.

FOR FURTHER INFORMATION CONTACT: Jennie O'Connor Card, Team Leader at (406) 522-2537 or jennieoconnorcard@fs.fed.us; or, Tim Gilloon, NEPA Program Manager at (928) 333-6333 or tgilloon@fs.fed.us.

Individuals who use telecommunication devices for the deaf (TDD) may call the Federal Information Relay Service (FIRS) at 1-800-877-8339 between 8 a.m. and 8 p.m., Eastern Time, Monday through Friday.

SUPPLEMENTARY INFORMATION: : On October 10, 2007, the Federal Register published a Notice of Intent (NOI) to prepare an Environmental Impact Statement for the Public Motorized Travel Management Plan on the Apache-Sitgreaves National Forests (72 FR 57514-57517). On October 31, 2007, the Federal Register published a corrected NOI for that document (72 FR 61607). On February 29, 2008 the Federal Register published a revised NOI for those documents (73 FR 11088-11091). The Forest Service is hereby entirely revising all those NOI documents, Federal Register of October 10, 2007 (72 FR 57514-57517), Federal Register of October 31, 2007 (72 FR 61607) and Federal Register of February 29, 2008 (73 FR 11088-11091), to read as follows.

Revision: The Forest Service is preparing a Revised Draft Environmental Impact Statement (DEIS) for the Apache-Sitgreaves Public Motorized Travel Management Plan (the Project) on the Apache-Sitgreaves National Forests (the Forests). The Forest Service is issuing this NOI to advise the public and agencies that we will be preparing a revised DEIS using new information, based on changed conditions, in order to make the best possible decision. The new information includes: Changed conditions due to the Wallow Fire of 2011; the 2015 Land Management Plan for the Apache-Sitgreaves National Forests (the Forest Plan); changes in aquatic and terrestrial species status; more accurate road mapping based on Light Detection and Ranging (LIDAR) data and aerial photography; and Forest Service decisions made under the National Environmental Policy Act since the 2010 DEIS. The revised DEIS will use the 2010 DEIS as a foundation, and will consider all public comments received; the revised DEIS does not change the nature or scope of the proposed action.

The Project proposes to designate which routes (roads and trails) and areas on federal lands administered by the Forests are open to motorized travel. This proposed action will bring the Forests into compliance with the Travel Management Rule (36 CFR 212, subpart B) to provide for a system of National Forest System (NFS) roads, motorized trails, and motorized areas designed for motor vehicle use. The proposed action prohibits cross-country travel and motor vehicle use off the designated system. This proposed action also will designate use of motor vehicles within a specified distance of certain designated routes for the purposes of dispersed camping and/or retrieval of a downed big game animal.

The Forest Service will produce a Motorized Vehicle Use Map (MVUM) that displays those routes and areas on the Forests that are open to motorized travel. The MVUM will be the primary tool used to determine compliance and enforcement with motor vehicle use designations. Existing routes, unauthorized routes, and areas not designated as open on the MVUM will be legally closed to motorized travel except as allowed by permit or other authorization. The decisions on motorized travel do not include over-snow travel or existing winter-use recreation.

Purpose and Need for Action

The purpose of this project is to comply with the Travel Management Rule by providing a system of roads, trails, and areas designated for motor vehicle use that reduces impacts to biological, physical, and cultural resources on the forests (36 CFR 212, sections 212, 251, 261). At 36 CFR 261.13, the Forests are required to prohibit motor vehicle use off the system of designated roads, trails, and areas and motor vehicle use that is not in accordance with the designations.

There is a need for a safe and efficient transportation system for public use, Agency administration, and resource protection, while recognizing historic and current uses of the forests. Specifically, there is a need for: (1) Identifying the system of roads that would be open to motor vehicle use; (2) identifying the system of motorized trails for vehicles 50 inches or less in width; and (3) optional designation of the limited use of motor vehicles within a specified distance of designated routes solely for the purposes of dispersed camping or retrieval of big game by an individual who has legally killed the animal.

There is a need to counter detrimental effects to resources from continued use of some roads and motorized trails, as well as cross-country travel. Some detrimental effects from motorized use of the Forests include increased sediment deposits in streams which degrade water quality and fish habitat, the spread of invasive plants across the forests, disturbances to a variety of plant and wildlife species, and the risk of damaging cultural resource sites.

Changed Conditions

The changed conditions and new information since the 2010 DEIS, which lead to the need for a revised environmental analysis, are incorporated in the updated alternatives being considered in detail. The first substantive change stemmed from the Wallow Fire of 2011, which resulted in changes to the physical environment within the project area. The fire resulted in changes in the ecology of the landscape, creating a need to conduct significant restoration and monitoring efforts in order to return the Forests to its natural fire regime. The Forest Plan is another substantive change to the existing conditions. This has changed the desired conditions, standards and guidelines, and suitability directing how the Forests are managed. The Forest Plan provides overarching management direction for how motorized travel will be managed on the Forests.

In addition, changes in aquatic and terrestrial species status under the Endangered Species Act for threatened and endangered species, and under Forest Service policy for sensitive species, resulted in another changed condition. Critical and sensitive habitats for some species can be found across the Forests which must now be considered and analyzed. Additionally, the Forests updated the existing conditions in the databases of record to match the on-the-ground conditions using LIDAR data and aerial photography. The result of this corrects or clarifies the existing physical NFS roads, changing the baseline of which the alternatives considered are compared against.

Other decisions made under the National Environmental Policy Act since the 2010 draft EIS by the Forests changed the existing conditions and led to changes in the action alternatives. While the Project is proposing to look at the entire National Forest System of roads, numerous decisions about specific roads and trails have been made since 2010 that provide definitive environmental analysis and designation for those roads and trails that does not require redundant analysis.

Collectively, these changes will be analyzed and incorporated into the revised DEIS, which will be circulated for public comment. The previous public comments and analysis will be used as the foundation for this revision. At the time that the revised DEIS is circulated, the public will have the opportunity to comment on the entire DEIS, including portions that have not been revised.

Preliminary Issues

The Forest analyzed all scoping comments received in 2007 to identify issues, which are defined as cause-effect relationships directly or indirectly caused by implementing the proposed action. The issues defined as within the scope of the project, and directly or indirectly caused by implementing the proposal, were used to develop the range of action alternatives. Four issues were identified: (1) Restricting motorized access for dispersed camping; (2) restricting motorized big game retrieval; (3) impacts to resources from motorized use; and, (4) economics: loss of revenues and jobs.

Proposed Action

The revised proposed action would designate a system of roads, trails, and areas for motorized use as well as motorized access for dispersed camping and motorized access for big game retrieval. The road system would have 15 percent fewer roads and 68 percent more motorized trails than the current system. That would result in 2,890 miles of NFS roads open to public motorized travel, including 2,143 miles of roads that are open to both highway legal and off-highway vehicles. Also, this would result in 270 miles of motorized trails across the Forests, with 20 miles open to all vehicles and 182 miles open to vehicles less than 50 inches wide.

The proposed action would designate 300 feet from either side of around 35 percent of the designated open roads (1,027 miles) for the sole purpose of accessing dispersed camping locations with motor vehicles. Motorized big game retrieval would be allowed within a 1-mile distance off the designated road and motorized trail system (1.2 million acres) for elk. No other species would be retrieved using motor vehicles. There would be one motorized use area designated (17 acres). All other cross country travel would be prohibited.

Possible Alternatives

The revised DEIS will analyze three alternatives in detail. These revised alternatives used the 2010 DEIS as a foundation and the public comments received from that DEIS.

Alternative 1 (no action) represents the existing transportation system and proposes no changes. The existing system includes 3,418 miles of open roads and 127 miles of motorized trails. Cross-country travel off system roads on around 1.6 million acres would continue, except where currently prohibited. This alternative is not be compliant with the travel management rule because it does not designate a system of roads, trails and areas for motorized use.

Alternative 2 is the Proposed Action, which would designate a system of roads, trails, and areas for motorized use as well as motorized access for dispersed camping and motorized access for big game retrieval. The road system would have 15 percent fewer roads and 68 percent more motorized trails than the current system. That would result in 2,890 miles of NFS roads open to public motorized travel, including 2,143 miles of roads that are open to both highway legal and off-highway vehicles.

Alternative 3 is being designated to address the following issues: (1) Restricting motorized access for dispersed camping; (2) restricting motorized big game retrieval; and, (3) impacts to resources from motorized use.

Scoping Process

The proposed action outlined in this revised NOI is identical to the scope of the proposed action that was originally scoped, and therefore a new scoping period is not required. The original scoping process solicited over 20,000 public comments, which are being used to guide the development of the revised DEIS. Comments received in response to this solicitation, including names and addresses of those who comment, will be part of the public record for this proposed action. Comments submitted anonymously will also be accepted and considered.

Responsible Official

The Responsible Official is the Forest Supervisor of the Apache-Sitgreaves National Forests, P.O. Box 640, Springerville, AZ 85938.

Nature of Decision To Be Made

Based on the effects to social, natural, and cultural resources, the Forest Supervisor will decide what changes to make to the current motorized travel system to be compliant with the Travel Management Rule. The decision will also include whether to provide motorized access for dispersed camping, whether to designate motorized use areas, and whether to provide access for motorized big game retrieval. The Record of Decision, which will be published after analyzing the public's comments, will document the decision with the rationale.

Dated: September 15, 2017.
Jeanne M. Higgins,
Acting Associate Deputy Chief, National Forest System.

[FR Doc. 2017-21009 Filed 9-29-17; 8:45 am]

BILLING CODE 3411-15-P